EQUAL EMPLOYMENT OPPORTUNITY COMMISSION

Agency Information Collection Activities: Existing Collection; Emergency Extension

AGENCY: Equal Employment Opportunity Commission.

ACTION: Notice of information collection—emergency extension without change: State and Local Government Information Report (EEO-4).

SUMMARY: In accordance with the Paperwork Reduction Act, the Equal Employment Opportunity Commission (EEOC or Commission) announces that it submitted to the Office of Management and Budget (OMB) a request for a 90-day emergency extension of the State and Local Government Information Report (EEO-4), to be effective after the current July 31, 2010 expiration date.

FOR FURTHER INFORMATION CONTACT: Ronald Edwards, Director, Program Research and Surveys Division, 131 M Street, NE., Room 4SW30F, Washington, DC 20507; (202) 663-4958 (voice) or (202) 663-7063 (TTY).

SUPPLEMENTARY INFORMATION: The EEOC has collected information from State and local governments with 100 or more full-time employees since 1974 (biennially in odd-numbered years since 1993).

Overview of Information Collection

Collection Title: State and Local Government Information Report (EEO-4).

OMB Number: 3046-0008.

Frequency of Report: Biennial.

Type of Respondent: State and local government jurisdictions with 100 or more employees.

Description of Affected Public: State and local governments excluding elementary and secondary public school districts.

Number of Responses: 13,456.

Reporting Hours: 44,719.

Cost to Respondents: $1,045,000.

Number of Forms: 1.

Form Number: EEOC Form 164.

Federal Cost: $187,500.

Abstract: Section 709(c) of Title VII of the Civil Rights Act of 1964, as amended, 42 U.S.C. 2000e-8(c), requires employers to make and keep records relevant to a determination of whether unlawful employment practices have been or are being committed, to preserve such records, and to produce reports as the Commission prescribes by regulation or order. Accordingly, the EEOC issued regulations prescribing the reporting requirements for State and local governments. State and local governments with 100 or more employees have been required to submit EEO-4 reports since 1974 (biennially in odd-numbered years since 1993). The individual reports are confidential.

EEO-4 data are used by the EEOC to investigate charges of discrimination against State and local governments and to provide information on the employment status of minorities and women. The data are shared with several other Federal agencies. Pursuant to section 709(d) of Title VII of the Civil Rights Act of 1964, U.S.C. 2000e-8(d), as amended, EEO-4 data is shared with State and local Fair Employment Practices Agencies (FEPAs). Aggregated data are also used by researchers and the general public.

Burden Statement: The estimated number of respondents included in the EEO-4 survey is 9,000 state and local governments. These 9,000 jurisdictions file about 13,456 reports due to the requirement for some to file separate reports by function. The form is estimated to impose 44,719 burden hours biennially.

Dated: July 2, 2010.
For the Commission.
Jacqueline A. Berrien,
Chair.

[FR Doc. 2010-17187 Filed 7-13-10; 8:45 am]

BILLING CODE 6750-01-P